DEPARTMENT OF ENERGY

Federal Energy Regulatory Commission

[Docket No. RP00-21-005]

Dominion Transmission, Inc.; Notice of Proposed Changes in FERC Gas Tariff

June 1, 2000.

Take notice that on May 26, 2000, Dominion Transmission, Inc. (Dominion), formerly CNG Transmission Corporation, tendered for filing as part of its FERC Gas Tariff, Second Revised Volume No. 1, tariff sheets with a proposed listed on Appendix A to the filing, with an effective date of July 1, 2000.

Dominion states that the purpose of this filing is to implement two new rate schedules, Rate Schedules Delivery Point Operator (DPO) and City Gate Swing Customer (CSC). Rate Schedule DPO is designed primarily to allow operators of citygate interconnections with Dominion to offer no-notice service to marketers serving retail markets behind the citygate. Rate Schedule CSC, a companion service to Rate Schedule DPO, is designed for marketers behind the citygate where, under certain terms and conditions, such marketers can receive no-notice service from Dominion.

The Commission in its March 31, 2000 Order accepted Dominion's proposed Rate Schedule DPO and CSC with the exception of the Dominion's proposed hourly flow restrictions and certain penalty proposals. In that Order, the Commission ordered Dominion to refile revised tariff sheets consistent with the Commission's March 31, 2000 order.

Dominion states that the revised tariff sheets fully comply with the Order's requirements to remove the proposed hourly flow restrictions from Rate Schedules FT, IT and MCS and the other changes required by the Commission in the Order. Dominion also states that it has incorporated minor corrections and clarified tariff language in order to satisfy customers that have filed for rehearing of the March 31, 2000, order or otherwise commented on Dominion's April 17, 2000, compliance filing, including tariff changes that would give Dominion additional responsibility to enforce contract overrun provisions with its CSC customers. To that end, Dominion has requested a limited waiver of Section 154.203(b) of the Commission's regulations, 18 CFR 154.203(b).

Dominion indicated that it plans to file its motion to move these tariff sheets into effect on or before June 30, 2000, provided that these tariff sheets are accepted for filing by the Commission and are allowed to become effective as proposed.

Dominion states that copies of its filing have been served upon Dominion's customers and interested state commissions.

Any person desiring to protest this filing should file a protest with the Federal Energy Regulatory Commission, 888 First Street, N.E., Washington, D.C. 20426, in accordance with Section 385.211 of the Commission's Rules and Regulations. All such protest must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14233 Filed 6-6-00; 8:45 am]

BILLING CODE 6717-01-M